DEPARTMENT OF ENERGY

Western Area Power Administration

Loveland Area Projects-Rate Order No. WAPA-125

AGENCY: Western Area Power Administration, DOE.

ACTION: Notice of proposed power rates.

SUMMARY: The Western Area Power Administration (Western) is proposing revised rates for Loveland Area Projects (LAP) firm electric service. LAP consists of the Fryingpan-Arkansas Project and the Pick-Sloan Missouri Basin Program—Western Division, which were integrated for marketing and rate-making purposes in 1989. Current rates, under Rate Schedule L-F5, expire on December 31, 2008, but are not sufficient to meet the LAP revenue requirements. Proposed rates will provide sufficient revenue to pay all annual costs, including interest expense, and repay required investment within the allowable period. Western will prepare a brochure that provides detailed information on the rates to all interested parties. Proposed rates, under Rate Schedule L-F6, are scheduled to go into effect on January 1, 2006, and will remain in effect through December 31, 2010. Publication of this Federal Register notice begins the formal process for the proposed rate adjustment.

DATES: The consultation and comment period begins today and will end September 14, 2005. Western will present a detailed explanation of the proposed rates at public information forums. The public information forum dates are:

1. July 19, 2005, 10 a.m. MDT in Denver, CO.

2. July 20, 2005, 8 a.m. CDT in Lincoln, NE.

Western will accept oral and written comments at a public comment forum. The public comment forum will be held on the following date:

1. August 16, 2005, 9 a.m. MDT in Denver, CO.

Western will accept written comments any time during the consultation and comment period.

ADDRESSES: Send written comments to Joel K. Bladow, Regional Manager, Rocky Mountain Region, Western Area Power Administration, 5555 East Crossroads Boulevard, Loveland, CO 80538-8986, e-mail lapfirmadj@wapa.gov. Western will post information about the rate process on its Web site under the “Rate Adjustments” section at http://www.wapa.gov/rm/rm.htm. Western will post official comments received via letter and e-mail to its Web site after the close of the comment period. Western must receive written comments by the end of the consultation and comment period to ensure they are considered in Western's decision process.

The public information forum locations are:

1. Denver—Radisson Stapleton Plaza Hotel, 3333 Quebec Street, Denver, CO.

2. Lincoln—Peru State College Center (located on the skywalk floor of Energy Square; Floor 3 in Center Park Garage), 1111 O Street, Lincoln, NE.

The public comment forum location is:

1. Denver—Radisson Stapleton Plaza Hotel, 3333 Quebec Street, Denver, CO.

FOR FURTHER INFORMATION CONTACT: Mr. Daniel T. Payton, Rates Manager, Rocky Mountain Region, Western Area Power Administration, 5555 East Crossroads Boulevard, Loveland, CO 80538-8986, telephone (970) 461-7442, e-mail lapfirmadj@wapa.gov.

SUPPLEMENTARY INFORMATION: Proposed rates for LAP firm electric service are designed to recover an annual revenue requirement that includes investment repayment, interest, purchase power, operation and maintenance, and repayment of irrigation assistance costs as required by law. The projected annual revenue requirement for firm electric service is allocated equally between capacity and energy.

The Department of Energy approved Rate Schedule L-F5 for LAP firm electric service on December 24, 2003 (Rate Order No. WAPA-105, 69 FR 644, January 6, 2004), and the Federal Energy Regulatory Commission (Commission) confirmed and approved the rate schedule on December 21, 2004, under FERC Docket No. EF04-5181-000 (109 FERC 62,228). Approval for Rate Schedule L-F5 covered 5 years beginning on February 1, 2004, ending on December 31, 2008.

Under Rate Schedule L-F5, the composite rate effective on October 1, 2004, is 23.90 mills per kilowatthour (mills/kWh), the energy rate is 11.95 mills/kWh and the capacity rate is $3.14 per kilowattmonth (kWmonth). Under Rate Schedule L-F6, Western is proposing a two-step rate adjustment. Under a two-step method, the rates for LAP firm electric service will result in an overall composite rate increase of approximately 9.3 percent effective on January 1, 2006, and another 5.2 percent effective on January 1, 2007, for a total increase of approximately 14.5 percent. The proposed rates for L-F6 firm electric service are listed in Table 1.

Table 1.—Two-Step Proposal-Firm Electric Service Revenue Requirement & Rates
Firm electric service | Existing rates | First step rates Jan. 1, 2006 | Percent change | Second step rates Jan. 1, 2007 | Percent change
LAP Revenue Requirement | $48.8 million | $53.3 million | 9.2 | $55.8 million | 5.1
LAP Composite Rate | 23.90 mills/kWh | 26.12 mills/kWh | 9.3 | 27.36 mills/kWh | 5.2
Firm Energy | 11.95 mills/kWh | 13.06 mills/kWh | 9.3 | 13.68 mills/kWh | 5.2
Firm Capacity | $3.14/kW-month | $3.43/kW-month | 9.2 | $3.59/kW-month | 5.1

Legal Authority

Since the proposed rates constitute a major adjustment as defined by 10 CFR part 903, Western will hold both a public information forum and a public comment forum. After review of public comments and possible amendments or adjustments, Western will recommend that the Deputy Secretary of Energy approve the proposed rates on an interim basis.

Western is establishing firm electric service rates for LAP under the Department of Energy Organization Act (42 U.S.C. 7152); the Reclamation Act of 1902 (ch. 1093, 32 Stat. 388), as amended and supplemented by subsequent laws, particularly section 9(c) of the Reclamation Project Act of 1939 (43 U.S.C. 485h(c)) and section 5 of the Flood Control Act of 1944 (16 U.S.C. 825s); and other acts that specifically apply to the projects involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Commission. Existing Department of Energy (DOE) procedures for public participation in power rate adjustments (10 CFR part 903) were published on September 18, 1985.

Availability of Information

All brochures, studies, comments, letters, memorandums, e-mail, or other documents that Western initiates to develop the proposed rates are available for inspection and copying at the Rocky Mountain Regional Office, located at 5555 East Crossroads Boulevard, Loveland, Colorado. Many of these documents, and supporting information, are also available on its Web site under the “Rate Adjustments” section located at http://www.wapa.gov/rm/rm.htm.

Regulatory Procedure Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. This action does not require a regulatory flexibility analysis since it is a rulemaking of particular applicability involving rates or services applicable to public property.

Environmental Compliance

In compliance with the National Environmental Policy Act of 1969 (NEPA) (42 U.S.C. 4321, et seq.); Council on Environmental Quality Regulations (40 CFR parts 1500-1508); and DOE NEPA Regulations (10 CFR part 1021), Western has determined that this action is categorically excluded from preparing an environmental assessment or an environmental impact statement.

Determination Under Executive Order 12866

Western has an exemption from centralized regulatory review under Executive Order 12866; accordingly, no clearance of this notice by the Office of Management and Budget is required.

Small Business Regulatory Enforcement Fairness Act

Western has determined that this rule is exempt from congressional notification requirements under 5 U.S.C. 801 because the action is a rulemaking of particular applicability relating to rates or services and involves matters of procedure.

Dated: June 8, 2005.
Michael S. Hacskaylo,
Administrator.

[FR Doc. 05-11883 Filed 6-15-05; 8:45 am]

BILLING CODE 6450-01-P